DEPARTMENT OF ENERGY

Federal Energy Regulatory Commission

Combined Notice of Filings #1

Take notice that the Commission received the following electric corporate filings:

Docket Numbers: EC16-106-000.

Applicants: Covanta Union, LLC.

Description: Application of Covanta Union, LLC for Authority to Transfer Jurisdictional Facilities and Request for Expedited Consideration and Waiver.

Filed Date: 4/22/16.

Accession Number: 20160422-5235.

Comments Due: 5 p.m. ET 5/13/16.

Docket Numbers: EC16-107-000.

Applicants: Greenleaf Energy Unit 1 LLC, Natgas Greenleaf Holdings, LLC.

Description: Joint Application of Greenleaf Energy Unit 1 LLC, et al. for Authorization Under FPA Section 203 and Request for Confidential Treatment, Expedited Consideration, and Waivers.

Filed Date: 4/22/16.

Accession Number: 20160422-5285.

Comments Due: 5 p.m. ET 5/13/16.

Take notice that the Commission received the following electric rate filings:

Docket Numbers: ER14-1151-002.

Applicants: Maine GenLead, LLC.

Description: Notice of Change in Fact of Maine GenLead, LLC.

Filed Date: 4/22/16.

Accession Number: 20160422-5245.

Comments Due: 5 p.m. ET 5/13/16.

Docket Numbers: ER16-1488-000.

Applicants: Nevada Power Company.

Description: § 205(d) Rate Filing: Service Agreement No. 15-00055 NPC-NPC 2nd Amdmt Dry Lake to be effective 4/18/2016.

Filed Date: 4/22/16.

Accession Number: 20160422-5179.

Comments Due: 5 p.m. ET 5/13/16.

Docket Numbers: ER16-1489-000.

Applicants: North Star Gas Company LLC.

Description: Baseline eTariff Filing: North Star Gas Baseline Electric Tariff Filing to be effective 5/23/2016.

Filed Date: 4/22/16.

Accession Number: 20160422-5216.

Comments Due: 5 p.m. ET 5/13/16.

Docket Numbers: ER16-1490-000.

Applicants: Madison Gas and Electric Company.

Description: § 205(d) Rate Filing: Certificates of Concurrence to be effective 6/22/2016.

Filed Date: 4/22/16.

Accession Number: 20160422-5222.

Comments Due: 5 p.m. ET 5/13/16.

Take notice that the Commission received the following qualifying facility filings:

Docket Numbers: QF15-793-000; QF15-794-000; QF15-795-000.

Applicants: SunE B9 Holdings, LLC.

Description: Refund Report of SunE B9 Holdings, LLC.

Filed Date: 4/22/16.

Accession Number: 20160422-5278.

Comments Due: 5 p.m. ET 5/16/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2016.
Nathaniel J. Davis, Sr.,
Deputy Secretary.

[FR Doc. 2016-10080 Filed 4-28-16; 8:45 am]

BILLING CODE 6717-01-P